DEPARTMENT OF HOUSING AND URBAN DEVELOPMENT

[Docket No. FR-4980-N-28]

Federal Property Suitable as Facilities to Assist the Homeless

AGENCY: Office of the Assistant Secretary for Community Planning and Development, HUD.

ACTION: Notice.

SUMMARY: This notice identifies unutilized, underutilized, excess, and surplus Federal property reviewed by HUD for suitability for possible use to assist the homeless.

FOR FURTHER INFORMATION CONTACT: Kathy Ezzell, room 7266, Department of Housing and Urban Development, 451 Seventh Street, SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this notice to identify Federal buildings and other real property that HUD has reviewed for suitability for use to assist the homeless. The properties were reviewed using information provided to HUD by Federal landholding agencies regarding unutilized and underutilized buildings and real property controlled by such agencies or by GSA regarding its inventory of excess or surplus Federal property. This notice is also published in order to comply with the December 12, 1988 Court Order in National Coalition for the Homeless v. Veterans Administration, No. 88-2503-OG (D.D.C.).

Properties reviewed are listed in this notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this notice. Where property is described as for “off-site use only” recipients of the property will be required to relocate the building to their own site at their own expense. Homeless assistance providers interested in any such property should send a written expression of interest to HHS, addressed to John Hicks, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this notice (i.e., acreage, floor plan, existing sanitary facilities, exact street address), providers should contact the appropriate landholding agencies at the following addresses: ENERGY: Mr. Andy Duran, Department of Energy, Office of Engineering & Construction Management, ME-90, 1000 Independence Ave., SW., Washington, DC 20585: (202) 586-4548; GSA: Mr. Brian K. Polly, Assistant Commissioner, General Services Administration, Office of Property Disposal, 18th and F Streets, NW., Washington, DC 20405; (202) 501-0084; INTERIOR: Ms. Linda Tribby, Acquisition & Property Management, Department of the Interior, 1849 C Street, NW., MS5512, Washington, DC 20240; (202) 219-0728; NAVY: Mr. Charles C. Cocks, Department of the Navy, Real Estate Policy Division, Naval Facilities Engineering Command, Washington Navy Yard, 1322 Patterson Ave., SE., Suite 1000, Washington, DC 20374-5065; (202) 685-9200; (these are not toll-free numbers).

Dated: July 7, 2005.
Mark R. Johnston,
Director, Office of Special Needs Assistance Programs.

Title V, Federal Surplus Property Program Federal Register Report for 7/15/05

Suitable/Available Properties

Buildings (by State)

Arkansas

Bldg. 110001

1001 E. Main Street

Mountain View Co: Stone AR 72560

Landholding Agency: GSA

Property Number: 54200530001

Status: Surplus

Comment: 1338 sq. ft., most recent use—residential, off-site use only

GSA Number: 7USDA-AR-0568

California

Redwoods Office Bldg.

8038 Chilnualna Falls Road

Yosemite Natl Park

Wawona Co: Mariposa CA 95389

Landholding Agency: Interior

Property Number: 61200530005

Status: Unutilized

Comment: 1746 sq. ft., possible asbestos/lead paint, off-site use only

Redwoods Bldg.

8038 Chilnualna Falls Road

Yosemite Natl Park

Wawona Co: Mariposa CA 95389

Landholding Agency: Interior

Property Number: 61200530006

Status: Unutilized

Comment: 78 sq. ft., possible asbestos/lead paint, off-site use only

Virginia

Former C. Funk House

Appalachian Natl Scenic Trail

Rural Retreat Co: Smyth VA

Landholding Agency: Interior

Property Number: 61200530007

Status: Excess

Comment: 1144 sq. ft., needs rehab, presence of asbestos, off-site use only

Former Repass House

Appalachian Natl Scenic Trail

Rural Retreat Co: Smyth VA

Landholding Agency: Interior

Property Number: 61200530008

Status: Excess

Comment: 2008 sq. ft., needs rehab, presence of asbestos, off-site use only

Former Hoover House

Appalachian Natl Scenic Trail

Pearisburg Co: Giles VA

Landholding Agency: Interior

Property Number: 61200530009

Status: Excess

Comment: 996 sq. ft., needs rehab, presence of lead paint, off-site use only

Former Hoover Shed

Appalachian Natl Scenic Trail

Pearisburg Co: Giles VA

Landholding Agency: Interior

Property Number: 61200530010

Status: Excess

Comment: 128 sq. ft., needs rehab, presence of lead paint, off-site use only

Former Morse Cabin

Appalachian Natl Scenic Trail

Pearisburg Co: Giles VA

Landholding Agency: Interior

Property Number: 61200530011

Status: Excess

Comment: 792 sq. ft., needs rehab, off-site use only

Former Morse House

Appalachian Natl Scenic Trail

Pearisburg Co: Giles VA

Landholding Agency: Interior

Property Number: 61200530012

Status: Excess

Comment: 2025 sq. ft., needs rehab, presence of asbestos, off-site use only

Unsuitable Properties

Buildings (by State)

Florida

Bldg. U-150

Naval Air Station

Key West Co: Monroe FL 33040

Landholding Agency: Navy

Property Number: 77200520044

Status: Excess

Reasons: Secured Area, Extensive deterioration

Guam

73 Bldgs.

Naval Computer & Telecommunications Station

Marianas Co: GU

Location: A700-A716, A725, A728, A735, A741-A784, A803-A805, A811-A813, A829-A831

Landholding Agency: Navy

Property Number: 77200520045

Status: Excess

Reasons: Secured Area, Extensive deterioration

Bldg. 24

Naval Ship Repair Facility

Marianas Co: GU

Landholding Agency: Navy

Property Number: 77200520046

Status: Excess

Reasons: Secured Area, Extensive deterioration

Bldgs. 39, 42

Naval Ship Repair Facility

Marianas Co: GU

Landholding Agency: Navy

Property Number: 77200520047

Status: Excess

Reasons: Secured Area, Extensive deterioration

Bldgs. 2006, 2009

Naval Ship Repair Facility

Marianas Co: GU

Landholding Agency: Navy

Property Number: 77200520048

Status: Excess

Reasons: Secured Area, Extensive deterioration

Bldgs. 2014, 2916

Naval Ship Repair Facility

Marianas Co: GU

Landholding Agency: Navy

Property Number: 77200520049

Status: Excess

Reasons: Secured Area, Extensive deterioration

Bldg. 2031

Naval Ship Repair Facility

Marianas Co: GU

Landholding Agency: Navy

Property Number: 77200520050

Status: Excess

Reasons: Secured Area, Extensive deterioration

Bldgs. 2056, 2057

Naval Ship Repair Facility

Marianas Co: GU

Landholding Agency: Navy

Property Number: 77200520051

Status: Excess

Reasons: Secured Area, Extensive deterioration

Bldg. 2064

Naval Ship Repair Facility

Marianas Co: GU

Landholding Agency: Navy

Property Number: 77200520052

Status: Excess

Reasons: Secured Area, Extensive deterioration

Bldgs. 2073, 2077

Naval Ship Repair Facility

Marianas Co: GU

Landholding Agency: Navy

Property Number: 77200520053

Status: Excess

Reasons: Secured Area, Extensive deterioration

Bldg. FH-05

Naval Forces

Marianas Co: GU

Landholding Agency: Navy

Property Number: 77200530002

Status: Unutilized

Reason: Extensive deterioration

Hawaii

Bldgs. 1048, 1963

Naval Station

Barbers Point Co: Honolulu HI 96707-

Landholding Agency: Navy

Property Number: 77200520054

Status: Excess

Reason: Extensive deterioration

Idaho

Bldg. B16 607

Idaho National Laboratory

Scoville Co: Butte ID 83415-

Landholding Agency: Energy

Property Number: 41200530001

Status: Excess

Reason: Secured Area

Bldg. CF660

Idaho National Laboratory

Scoville Co: Butte ID 83415-

Landholding Agency: Energy

Property Number: 41200530002

Status: Excess

Reason: Secured Area

Illinois

Bldg. 42

Naval Station

Great Lakes Co: IL 60088-

Landholding Agency: Navy

Property Number: 77200520055

Status: Excess

Reasons: Secured Area, Extensive deterioration

Bldgs. 25 & 28

Naval Station

Great Lakes Co: IL 60088-

Landholding Agency: Navy

Property Number: 77200530001

Status: Excess

Reason: Extensive deterioration

Maine

Bldg. M-17

Portsmouth Naval Shipyard

York Co: Kittery ME 03904-

Landholding Agency: Navy

Property Number: 77200520057

Status: Excess

Reason: Secured Area

Bldg. 288

Portsmouth Naval Shipyard

York Co: Kittery ME 03904-

Landholding Agency: Navy

Property Number: 77200520058

Status: Excess

Reasons: Within 2000 ft. of flammable or explosive material, Secured Area

Bldgs. 344, 346

Portsmouth Naval Shipyard

York Co: Kittery ME 03904-

Landholding Agency: Navy

Property Number: 77200520059

Status: Excess

Reasons: Within 2000 ft. of flammable or explosive material, Secured Area

New Jersey

Bldgs. 437, 443, 506

Naval Air Engineering Station

Lakehurst Co: Ocean NJ 08733-

Landholding Agency: Navy

Property Number: 77200520056

Status: Unutilized

Reason: Extensive deterioration

New York

Sailors Haven Complex

Fire Island Natl Seashore

Suffolk Co: NY 11772-

Landholding Agency: Interior

Property Number: 61200530001

Status: Unutilized

Reasons: Not accessible by road, Extensive deterioration

South Carolina

Facility 701-5G

Savannah River Site

New Ellenton Co: SC

Landholding Agency: Energy

Property Number: 41200530003

Status: Unutilized

Reason: Extensive deterioration

Virginia

Former Averhart Barn

Appalachian Natl Scenic Trail

Huffman Co: Craig VA

Landholding Agency: Interior

Property Number: 61200530002

Status: Excess

Reason: Extensive deterioration

Former Givens House

Appalachian Natl Scenic Trail

Huffman Co: Craig VA

Landholding Agency: Interior

Property Number: 61200530003

Status: Excess

Reason: Extensive deterioration

Former Edmiston Barn

Apalachian Natl Scenic Trail

Rural Retreat Co: Smyth VA

Landholding Agency: Interior

Property Number: 61200530004

Status: Excess

Reason: Extensive deterioration

Bldgs. 161 thru 167

Naval Weapons Station

Yorktown Co: VA 23691-

Landholding Agency: Navy

Property Number: 77200520033

Status: Excess

Reasons: Secured Area, Extensive deterioration

Bldgs. 171 thru 177

Naval Weapons Station

Yorktown Co: VA 23691-

Landholding Agency: Navy

Property Number: 77200520034

Status: Excess

Reasons: Secured Area, Extensive deterioration

Bldgs. 181 thru 187

Naval Weapons Station

Yorktown Co: VA 23691-

Landholding Agency: Navy

Property Number: 77200520035

Status: Excess

Reasons: Secured Area, Extensive deterioration

Bldgs. 191 thru 197

Naval Weapons Station

Yorktown Co: VA 23691-

Landholding Agency: Navy

Property Number: 77200520036

Status: Excess

Reasons: Secured Area, Extensive deterioration

Bldgs. 201 thru 207

Naval Weapons Station

Yorktown Co: VA 23691-

Landholding Agency: Navy

Property Number: 77200520037

Status: Excess

Reasons: Secured Area, Extensive deterioration

Bldgs. 211 thru 217

Naval Weapons Station

Yorktown Co: VA 23691-

Landholding Agency: Navy

Property Number: 77200520038

Status: Excess

Reasons: Secured Area, Extensive deterioration

Bldgs. 260-261, 263-268

Naval Weapons Station

Yorktown Co: VA 23691-

Landholding Agency: Navy

Property Number: 77200520039

Status: Excess

Reasons: Secured Area, Extensive deterioration

9 Bldgs.

Naval Weapons Station

Yorktown Co: VA 23691-

Location: 467, CAD120, 404, 430, 1899, 715, 1831, 1832, CAD102B

Landholding Agency: Navy

Property Number: 77200520040

Status: Excess

Reasons: Secured Area, Extensive deterioration

8 Bldgs.

Naval Weapons Station

Yorktown Co: VA 23691-

Location: 760, 761, 269, F1, F2, F3, F4, 26

Landholding Agency: Navy

Property Number: 77200520041

Status: Excess

Reasons: Secured Area, Extensive deterioration

5 Bldgs.

Naval Weapons Station

Yorktown Co: VA 23691-

Location: 797, 798, 799, 800, CAD223

Landholding Agency: Navy

Property Number: 77200520042

Status: Excess

Reasons: Secured Area, Extensive deterioration

Bldgs. 1860 thru 1865

Naval Weapons Station

Yorktown Co: VA 23691-

Landholding Agency: Navy

Property Number: 77200520043

Status: Excess

Reasons: Secured Area, Extensive deterioration

Land (by State)

New York

Portion/Binghamton Depot

Hillcrest Co: Broome NY 13901-

Landholding Agency: GSA

Property Number: 54200530002

Status: Excess

Reason: Within 2000 ft. of flammable or explosive material

GSA Number: 1-G-NY-760-2C

Radar Microwave Link

Repeater Land

Hempstead Co: Nassau NY 11793-

Landholding Agency: GSA

Property Number: 54200530003

Status: Excess

Reason: landlocked

GSA Number: 1-U-NY-0918

Washington

405 sq. ft./Land

Naval Base Kitsap

Bangor Co: WA

Landholding Agency: Navy

Property Number: 77200520060

Status: Unutilized

Reason: Secured Area

[FR Doc. 05-13721 Filed 7-14-05; 8:45 am]

BILLING CODE 4210-29-P